ENVIRONMENTAL PROTECTION AGENCY

[FRL-8159-2]

Science Advisory Board Staff Office Notification of an Upcoming Teleconference of the Science Advisory Board Geographic Information System Screening Tool Review Panel

AGENCY: Environmental Protection Agency (EPA).

ACTION: Notice.

SUMMARY: The EPA Science Advisory Board (SAB) Staff Office announces a public teleconference of the SAB Geographic Information System Screening Tool Review Panel.

DATES: The public teleconference will be held on May 2, 2006, from 2 p.m. to 5 p.m. (eastern time).

FOR FURTHER INFORMATION CONTACT: Members of the public who wish to obtain the call-in number and access code for the teleconference may contact Dr. Thomas Armitage, Designated Federal Officer (DFO), by mail at the Science Advisory Board Office (1400F), U.S. EPA, 1200 Pennsylvania Avenue, NW., Washington, DC 20460; by telephone at (202) 343-9995; or by e-mail at armitage.thomas@epa.gov. General information about the SAB may be found on the SAB Web site at http://www.epa.gov/sab.

SUPPLEMENTARY INFORMATION: Background: Pursuant to the Federal Advisory Committee Act, Public Law 92-463, notice is hereby given that the SAB Geographic Information System Screening Tool Review Panel will hold a public teleconference to discuss its draft advisory report on the EPA Region 6 Geographic Information System Screening Tool. The Panel reviewed the GISST at a public meeting held on December 7-8, 2005 and has prepared a draft advisory report to EPA. Background information on the Panel and the GISST review was provided in Federal Register notices published on September 22, 2005 (70 FR 55620-55621) and November 15, 2005 (70 FR 69340-69341). The Panel is holding the teleconference to finalize its draft report before submitting the report to the chartered SAB for review and approval. The Panel(s draft advisory report may be found on the SAB Web site at http://www.epa.gov/sab. The teleconference agenda will be posted on the SAB website prior to the teleconference. The Panel will comply with the provisions of the Federal Advisory Committee Act (FACA) and all appropriate SAB procedural policies.

Procedures for Providing Public Input: Members of the public may submit relevant written or oral information for the SAB Panel to consider during the advisory process.

Oral Statements: In general, individuals or groups requesting an oral presentation at a public teleconference will be limited to three minutes per speaker with no more than a total of fifteen minutes for all speakers. Interested parties should contact the DFO, contact information provided above, in writing via e-mail seven days before the teleconference in order to be placed on the public speaker list.

Written Statements: Written statements should be received in the SAB Staff Office at least seven days before the meeting so that the information may be made available to the Panel for their consideration. Written statements should be supplied to the DFO in the following formats: one hard copy with original signature, and one electronic copy via e-mail (acceptable file format: Adobe Acrobat, WordPerfect, Word, or Rich Text files (in IBM-PC/Windows 98/2000/XP format).

Meeting Accommodations: For information on access or services for people with disabilities, please contact the DFO, contact information provided above. To request accommodation of a disability please contact the DFO, preferably at least ten business days prior to the meeting, to give EPA as much time as possible to process your request.

Dated: April 11, 2006.
Anthony F. Maciorowski,
Associate Director for Science, EPA Science Advisory Board Staff Office.

[FR Doc. E6-5687 Filed 4-14-06; 8:45 am]

BILLING CODE 6560-50-P